DEPARTMENT OF COMMERCE

International Trade Administration

[A-427-818]

Low Enriched Uranium From France: Final Results of Changed Circumstances Review

AGENCY: Enforcement and Compliance, International Trade Administration, Department of Commerce.

SUMMARY: The Department of Commerce (the Department) has granted an extension of time for the re-exportation of one specified entry of low enriched uranium (LEU) that entered under a narrow provision that conditionally excludes it from the scope of the antidumping (AD) order. The Department extends the exportation deadline until January 31, 2018.

DATES: Effective date: May 22, 2015.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

On February 17, 2015, the Department published the initiation and preliminary results of the changed circumstances review (CCR).¹ In the Initiation and Preliminary Results the Department preliminarily determined that changed circumstances did not exist, and that Eurodif SA and Areva Inc. (collectively AREVA) would not be granted an additional extension of time to re-export the specified entry of low-enriched uranium. Since the publication of the Initiation and Preliminary Results, the following events have taken place. AREVA, Centrus Energy Corporation (Petitioners), and the Nuclear Energy Institute submitted comments on March 17, 2015. Chubu Electric Power Company, Inc. submitted comments on March 24, 2015. No rebuttal comments were filed.

¹ See Low Enriched Uranium from France: Initiation of Expedited Changed Circumstances Review and Preliminary Results of Changed Circumstances Review, 80 FR 8285 (February 17, 2015) (Initiation and Preliminary Results).

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).²

² For a full description of the scope of the order see “Decision Memorandum for Final Results of Changed Circumstances Review of Low Enriched Uranium from France,” (Issues and Decision Memorandum) from Christian Marsh, Deputy Assistant Secretary for Antidumping and Countervailing Duty Operations to Paul Piquado, Assistant Secretary for Enforcement and Compliance (Issues and Decision Memorandum), dated concurrently with these results and hereby adopted by this notice.

Analysis of Comments Received

All issues raised by the parties in the case briefs are addressed in the Issues and Decision Memorandum. A list of the issues addressed in the Issues and Decision Memorandum is appended to this notice. The Issues and Decision Memorandum is a public document and is available electronically via Enforcement and Compliance's Antidumping and Countervailing Duty Centralized Electronic Services System (ACCESS). ACCESS is available to registered users at http://access.trade.gov, and it is available to all parties in the Central Records Unit of the main Commerce Building, room 7046. In addition, a complete version of the Issues and Decision Memorandum is also accessible on the internet at http://enforcement.trade.gov/frn/index.html. The signed Issues and Decision Memorandum and the electronic versions of the Issues and Decision Memorandum are identical in content.

Final Results of CCR

Upon review of the comments received in this case the Department has determined that the new regulatory requirements enacted by Japan's Nuclear Regulatory Authority since the previous CCR ³ do constitute new circumstances, and that it is appropriate to extend the deadline for re-exportation of this sole entry of low-enriched uranium. The Department is granting an extension for re-exportation of this sole entry until January 31, 2018. AREVA will be required to provide the Department with a report on the status of the relevant reactor semi-annually.⁴ AREVA and the end-user will be required to submit amended certifications to U.S. Customs and Border Protection (CBP). The Department will release amended certifications to parties for comment before AREVA and the end-user are required to submit such certifications to CBP.

³ See Low Enriched Uranium From France: Final Results of Changed Circumstances Review, 78 FR 66898 (November 7, 2013).

⁴ See Issues and Decision Memorandum at page 3.

In the event that the deadline for re-export expires and the subject uranium has not been re-exported, and no further extension is granted, the Department will take appropriate action, which may include our reexamination of the cash deposit rate applied to all entries of AREVA's merchandise under the 18-month re-export provision.

Instructions to CBP

The Department will inform CBP that the deadline for re-exportation of the single entry at issue is extended until January 31, 2018. The Department will instruct CBP to collect amended certifications from AREVA and its end-user within 30 days of publication of these final results of CCR.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

We are issuing and publishing these final results in accordance with sections 751(b)(1) and 777(i)(1) and (2) of the Act and 19 CFR 351.216.

Dated: May 15, 2015.
Paul Piquado,
Assistant Secretary for Enforcement and Compliance.

Appendix—Topics in the Issues and Decision Memorandum

I. Summary

II. Background

III. Scope of the Order

IV. Discussion of the Issues Allowing Further Extension of the Re-Export Deadline

V. Department Position

VI. Recommendation

[FR Doc. 2015-12547 Filed 5-21-15; 8:45 am]

BILLING CODE 3510-DS-P